DEPARTMENT OF ENERGY

Western Area Power Administration

Notice of Intent To Prepare an Environmental Impact Statement for the Sacramento Area Voltage Support Project, California

AGENCY: Western Area Power Administration, DOE.

ACTION: Notice of intent to prepare an environmental impact statement.

SUMMARY: In accordance with Section 102(2) of the National Environmental Policy Act (NEPA) of 1969, 42 U.S.C. 4332, Western Area Power Administration (Western), intends to prepare an Environmental Impact Statement (EIS) addressing Western's actions to meet the future voltage requirements of the Central Valley Project (CVP) transmission system in the Sacramento, California area. Per 40 CFR part 1501.5(b), Western will serve as the lead agency to prepare the EIS.

This notice announces Western's intention to prepare an EIS and hold public scoping meetings for the proposed project. The scoping process will include notifying the general public and Federal, State, local, and tribal agencies of the proposed action. The purpose of scoping is to identify public and agency concerns, and alternatives to be considered in the EIS.

DATES: The meeting dates are:

1. September 12, 2000, 7 p.m. to 9 p.m., Lodi, California.

2. September 20, 2000, 1:30 p.m. to 3:30 p.m., and 7 p.m. to 9 p.m., Folsom, California.

3. September 21, 2000, 7 p.m. to 9 p.m., Marysville, California.

ADDRESSES: Written comments on the scope of the EIS for the proposed project will also be accepted; comments on the scope should be received no later than October 2, 2000, addressed to: Ms. Loreen McMahon, Environmental Project Manager, Sierra Nevada Customer Service Region, Western Area Power Administration, 114 Parkshore Drive, Folsom, CA 95630-4710, fax (916) 985-1936, e-mail mcmahon@wapa.gov.

The meeting locations are:

1. City of Lodi Council Chambers, Carnegie Forum Room, 305 West Pine Street, Lodi, California.

2. Sierra Nevada Regional Office, Western Area Power Administration, 114 Parkshore Drive, Folsom, California.

3. Yuba County Board of Supervisors Chambers, Third Floor, 215 Fifth Street, Marysville, California.

FOR FURTHER INFORMATION CONTACT: For general information on the U.S. Department of Energy's NEPA review procedures or status of a NEPA review, contact Ms. Carol M. Borgstrom, Director, Office of NEPA Policy and Compliance, EH-42, U.S. Department of Energy, 1000 Independence Avenue SW., Washington, DC 20585, telephone (202) 586-4600 or (800) 472-2756.

SUPPLEMENTARY INFORMATION: Western is a Federal power marketing administration, charged with the responsibility of marketing electricity generated by powerplants operated by the Bureau of Reclamation, the Corps of Engineers, and the International Boundary and Water Commission. Created in 1977, Western markets on a wholesale basis and transmits Federal hydroelectric power throughout a 1.3 million square mile service territory to more than 600 customers. Customers include rural electric cooperatives, municipal utilities, public utility districts, Federal and State agencies, irrigation districts, and Native American tribes. Western's power customers, in turn, provide service to millions of consumers in 15 western States. Western has four customer service regions: Sierra Nevada, Desert Southwest, Upper Great Plains, and Rocky Mountain, as well as the Colorado River Storage Project Management Center in Salt Lake City, Utah. The Sierra Nevada Regional Office is located in Folsom, California, and carries out Western's mission to customers in northern and central California. This Notice of Intent addresses only the voltage support needs for the Sacramento, California area.

Growth in the greater Sacramento area continues to increase the demand on the area's interconnected transmission system. This situation is reducing the reliability and security of the power system, particularly during summer peak periods. The majority of the Sacramento area's energy needs are imported over a limited transmission system that has reached, and occasionally exceeds, its maximum rated transfer limits. Western's CVP transmission system forms an integral part of the Sacramento area transmission grid.

In order to maintain the reliability and stability of the system, the Western Systems Coordinating Council has established minimum operating standards. When the standards cannot be met and the system is in danger of transmission system or area capacity shortages, system instability, or voltage collapse, the California Independent System Operator (Cal-ISO) declares staged emergencies. Stage 1 of the State's Electrical Emergency Plan is initiated to advise the public of potential power shortages and to ask all customers to voluntarily conserve electricity to ensure there will be enough power to meet demand. When a Stage 2 Emergency is declared, supply is decreased to large commercial customers that have agreed to voluntarily curtail power during high demand days. A Stage 3 Emergency initiates involuntary curtailment of service to customers, including “rotating blackouts.”

Historically, eight Stage 1 Emergencies and four Stage 2 Emergencies were declared within the Cal-ISO-controlled area in 1998, but no Stage 3 Emergency notices were issued. In 1999, the numbers dropped somewhat with three Stage 1 Emergencies and one Stage 2 Emergency declared. However, as of July 25, 2000, eleven Stage 1 Emergency notices have been issued and five Stage 2 Emergencies have been declared.

Cal-ISO forecasts of insufficient power generation in the event of a “hot” summer this year could mean that the reliability of future electrical service is in further jeopardy. The forecast peak load for this year exceeds the sum of the resources for the area and identifies a power deficit of 1,110 megawatts. This deficit would reduce operating reserves to below minimum required levels. In order to meet the demand and ensure electrical service reliability, additional generation and additional transmission in the area is needed.

Area utilities have taken interim measures, such as load shedding, to manage peak power demands and avoid uncontrolled, systemwide outages. Load shedding is the process of deliberately removing pre-selected electric energy from a power system in order to maintain the reliability of the system under unusual conditions. As the usage increases within the Sacramento area, these interim measures will not be sufficient to prevent wide-scale power interruptions.

Western proposes to prepare an EIS to address Western's actions concerning the future voltage requirements of the Sacramento area. The EIS will describe the projected near-term voltage support requirements for a 100-mile radius around Sacramento, existing transmission lines bringing power into the Sacramento area, and the potential for new transmission lines and/or system upgrades in the Sacramento area to alleviate the current shortfall in electrical service.

The EIS will be prepared following the requirements of the Council on Environmental Quality's NEPA Implementing Regulations (40 CFR part 1500-1508). The EIS will analyze the effects of constructing and operating all components of the project. The No Action Alternative will also be analyzed in the EIS. The EIS will address other alternatives within categories. The categories identified include: upgrade of existing transmission systems and facilities, new power generation, new transmission systems (including transmission responses to possible new power generation by others), demand-side management (e.g., non-firm load and load shedding), and distributed generation (e.g., solar, micro-turbines, fuel cells). The EIS will examine the potential impact to a number of resource areas including: terrestrial and aquatic environments, threatened and endangered species, cultural and historic resources, visual resources, recreation, socioeconomics, air resources, noise, geology and soils, water, and land use, in addition to any issues raised during the scoping process. Western intends to allow full public participation, disclosure, and coordination, and will encourage involvement from appropriate Federal, State, local, and tribal government agencies during the EIS process. The EIS process will include public information/scoping meetings (September 2000), public review of the Draft EIS (July 2001), a public hearing on the Draft EIS (August 2001), distribution of the Final EIS (April 2002), and Western's Record of Decision (June 2002).

Dated: July 31, 2000.
Michael S. Hacskaylo,
Administrator.

[FR Doc. 00-19987 Filed 8-7-00; 8:45 am]

BILLING CODE 6450-01-P